DEPARTMENT OF COMMERCE

International Trade Administration

A-570-863

Honey From the People's Republic of China: Extension of Time Limit for Preliminary Results of Second Antidumping Duty Administrative Review

AGENCY: Import Administration, International Trade Administration, Department of Commerce.

ACTION: Notice of extension of time limit for preliminary results of antidumping duty administrative review.

SUMMARY: The Department of Commerce (the Department) is extending the time limit for the preliminary results of the administrative review of the antidumping duty order on honey from the People's Republic of China (PRC) until no later than November 19, 2004. The period of review is December 1, 2002, through November 30, 2003.

EFFECTIVE DATE: June 1, 2004.

FOR FURTHER INFORMATION CONTACT: Jim Nunno at (202) 482-0783 or Anya Naschak at (202) 482-6375; Antidumping and Countervailing Duty Enforcement Group III, Import Administration, International Trade Administration, U.S. Department of Commerce, 14th Street and Constitution Avenue, NW, Washington, DC 20230.

SUPPLEMENTARY INFORMATION:

Statutory Time Limits

Section 751(a)(3)(A) of the Tariff Act of 1930, as amended (the Act), and section 351.213(h)(1) of the Department's regulations require the Department to issue the preliminary results of an administrative review within 245 days after the last day of the anniversary month of the order or suspension agreement for which the administrative review was requested, and final results of review within 120 days after the date on which the notice of the preliminary results was published in the Federal Register. However, if the Department determines that it is not practicable to complete the review within this time period, section 751(a)(3)(A) of the Act and section 351.213(h)(2) of our regulations allow the Department to extend the 245-day period to 365 days and the 120-day period to 180 days.

Background

On December 10, 2001, the Department published in the Federal Register an antidumping duty order covering honey from the PRC. See Notice of Amended Final Determination of Sales at Less Than Fair Value and Antidumping Duty Order; Honey from the People's Republic of China, 66 FR 63670 (December 10, 2001). On December 2, 2003, the Department published a Notice of Opportunity to Request an Administrative Review of Antidumping or Countervailing Duty Order, Finding, or Suspended Investigation, 68 FR 67401. On December 29, 2003, Anhui Honghui Foodstuff (Group) Co., Ltd. (Anhui Honghui); Eurasia Bee's Products Co., Ltd. (Eurasia); and Jiangsu Kanghong Natural Healthfoods Co., Ltd. (Jiangsu Kanghong) requested that the Department conduct an administrative review of each respective company's entries during the POR. On December 31, 2003, the American Honey Producers Association and the Sioux Honey Association (collectively, the petitioners), requested, in accordance with section 351.213(b) of the Department's regulations, an administrative review of entries of subject merchandise made during the POR by 20 Chinese producers/exporters, which included Anhui Honghui, Eurasia, and Jiangsu Kanghong, as well as the following companies: Anhui Native Produce Import & Export Corp. (Anhui Native); Cheng Du Wai Yuan Bee Products Co., Ltd. (Cheng Du); Foodworld International Club, Ltd. (Foodworld); Henan Native Produce and Animal By-Products Import & Export Company (Henan); High Hope International Group Jiangsu Foodstuffs Import & Export Corp. (High Hope); Inner Mongolia Autonomous Region Native Produce and Animal By-Products Import & Export Corp. (Inner Mongolia); Inner Mongolia Youth Trade Development Co., Ltd. (Inner Mongolia Youth); Jinan Products Industry Co., Ltd. (Jinan); Jinfu Trading Co., Ltd. (Jinfu); Kunshan Foreign Trade Company (Kunshan); Native Produce and Animal Import & Export Co. (Native Produce); Shanghai Eswell Enterprise Co., Ltd. (Shanghai Eswell); Shanghai Shinomiel International Trade Corporation (Shanghai Shinomiel); Shanghai Xiuwei International Trading Co., Ltd. (Shanghai Xiuwei); Sichuan-Dujiangyan Dubao Bee Industrial Co., Ltd. (Dubao); Wuhan Bee Healthy Company, Ltd. (Wuhan Bee); and Zhejiang Native Produce and Animal By-Products Import & Export Group Corp. (Zhejiang). On January 14, 2004, the petitioners filed a letter withdrawing their request for review of Henan, High Hope, Jinan, and Native Produce. On January 22, 2003, the Department initiated the review for the remaining 16 companies. See Initiation of Antidumping and Countervailing Duty Administrative Reviews and Requests for Revocation in Part, 68 FR 3009 (January 22, 2004).

On January 29, 2004, the Department issued antidumping duty questionnaires to the 16 PRC producers/exporters of the subject merchandise covered by this administrative review.

On February 6, 2004, we published a notice initiating new shipper reviews for sales made by Anhui Honghui, Eurasia, Inner Mongolia Youth, and Jiangsu Kanghong during the same POR as this administrative review, in response to timely requests for new shipper reviews of the antidumping duty order on honey from the PRC made by these respondents in accordance with section 351.214(c) of the Department's regulations. See Honey from the People's Republic of China: Initiation of New Shipper Duty Administrative Reviews, 69 FR 5835. On February 13, 2004, and February 18, 2004, petitioners withdrew their request for review of Foodworld and Anhui Native, respectively. On February 24, 2004, Cheng Du stated that all of its direct and indirect export sales of honey to the United States during the POR fall within the separate new shipper review covering the period December 1, 2002, through May 31, 2003. See Honey From the People's Republic of China: Initiation of New Shipper Antidumping Duty Reviews, 68 FR 47537 (August 11, 2003). Therefore, it requested that the Department rescind this proceeding for Cheng Du. On February 25, 2004, Inner Mongolia Youth stated that the only sale it made during the POR was currently being reviewed by the separate new shipper review initiated on February 6, 2004, and requested that the Department rescind this administrative review for Inner Mongolia Youth. On March 5, 2004, Anhui Honghui, Eurasia, and Jiangsu Kanghong withdrew their requests for the administrative review covering the POR because all of their entries of subject merchandise during the POR are also subject to the new shipper review initiated by the Department on February 6, 2004.

On March 8, 2004, we received a response to Section A of our antidumping duty questionnaire from Shanghai Xiuwei.

On March 10, 2004, the Department rescinded the review for Foodworld and Anhui Native. See Honey from the People's Republic of China: Notice of Partial Rescission of Antidumping Duty Administrative Review, 69 FR 11383.

On March 11, 2004, we received responses to Section A of our antidumping duty questionnaires from Jinfu, Zhejiang, Inner Mongolia, Shanghai Eswell, and Wuhan Bee.

On March 12, 2004, petitioners also withdrew their request for an administrative review of entries made by Anhui Honghui, Cheng Du, Eurasia, Inner Mongolia Youth, and Jiangsu Kanghong.

On March 15, 2004, we received a response to Section A of our antidumping duty questionnaire from Dubao. On March 23, 2004, we received responses to Sections C and D of our antidumping duty questionnaires from Shanghai Xiuwei. On March 24, 2004, Kunshan notified the Department that it made no shipments to the United States during the POR. On March 25, 2004, we received responses to Sections C and D of our antidumping duty questionnaires from Jinfu, Zhejiang, Inner Mongolia, Shanghai Eswell, and Wuhan Bee.

On March 25, 2004, we invited interested parties to comment on the Department's surrogate country selection and/or significant production in the potential countries and to submit publicly available information to value the factors of production.

On April 1, 2004, we received responses to Sections C and D of our antidumping duty questionnaires from Dubao. On April 1, 2, 6, 9, 19, 20, May 5 and 7, 2004, the petitioners submitted deficiency comments on the respondents' questionnaire responses. On April 7, 2004, we received a response to Section E of our antidumping duty questionnaire from Wuhan Bee.

On April 15, 2004, the petitioners submitted comments on the selection of the proper surrogate country.

On April 16, 2004, we issued a supplemental questionnaire to Dubao. On April 19, 2004, we issued supplemental questionnaires to Zhejiang, Inner Mongolia, Shanghai Eswell, and Shanghai Xiuwei. On April 20, 2004, we issued a supplemental questionnaire to Wuhan Bee. On April 21, 2004, we issued a supplemental questionnaire to Jinfu.

On April 27, 2004, the Department rescinded the review for Anhui Honghui, Cheng Du, Eurasia, Inner Mongolia Youth, and Jiangsu Kanghong. See Honey from the People's Republic of China: Notice of Partial Rescission of Antidumping Duty Administrative Review, 69 FR 22760.

On April 30, 2004, we received a response to our supplemental questionnaire from Dubao.

On May 10, 2004, the petitioners and respondents submitted comments on surrogate information with which to value the factors of production in this proceeding.

The preliminary results are currently due no later than September 1, 2004.

Extension of Time Limits for Preliminary Results

Pursuant to section 751(a)(3)(A) of the Act and section 351.213(h) of the Department's regulations, we determine that it is not practicable to complete this administrative review within the statutory time limit of 245 days. The Department finds that it is not practicable to complete the preliminary results of this administrative review within this time limit because we need additional time to analyze the questionnaire responses, issue appropriate supplemental questionnaires, and conduct verifications. In particular, the Department needs additional time to research and analyze the appropriate surrogate values for raw honey. Therefore, in accordance with section 751(a)(3)(A) of the Act and section 351.213(h)(2) of the Department=s regulations, the Department is extending the time limit for the completion of these preliminary results by an additional 79 days. The preliminary results will now be due no later than November 19, 2004.

The final results will, in turn, be due 120 days after the date of issuance of the preliminary results, unless extended.

Dated: May 24, 2004.
Joseph A. Spetrini,
Deputy Assistant Secretary for Import Administration, Group III.

[FR Doc. 04-12296 Filed 5-28-04; 8:45 am]

BILLING CODE 3510-DS-S